DEPARTMENT OF ENERGY

Federal Energy Regulatory Commission

Combined Notice of Filings

Take notice that the Commission has received the following Natural Gas Pipeline Rate and Refund Report filings:

Docket Numbers: PR20-49-000.

Applicants: The East Ohio Gas Company.

Description: Tariff filing per 284.123(b),(e)/: Operating Statement of The East Ohio Gas Company 4/8/2020.

Filed Date: 4/8/2020.

Accession Number: 202004085101.

Comments/Protests Due: 5 p.m. ET 4/29/2020.

Docket Numbers: RP20-530-001.

Applicants: National Fuel Gas Supply Corporation.

Description: Compliance filing RP20-530 Fuel Tracker Compliance Filing to be effective 4/1/2020.

Filed Date: 4/9/20.

Accession Number: 20200409-5068.

Comments Due: 5 p.m. ET 4/21/20.

Docket Numbers: RP20-778-000.

Applicants: Dominion Energy Overthrust Pipeline, LLC.

Description: § 4(d) Rate Filing: Statement of Negotiated Rates Version 9.0.0 to be effective 5/9/2020.

Filed Date: 4/9/20.

Accession Number: 20200409-5060.

Comments Due: 5 p.m. ET 4/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2020-08154 Filed 4-16-20; 8:45 am]

BILLING CODE 6717-01-P